DEPARTMENT OF AGRICULTURE

Forest Service

Environmental Impact Statement for Issuance of a Special Use Permit for the Continued Operation of the Winchester Canyon Gun Club; Los Padres National Forest, California

AGENCY: Forest Service, USDA.

ACTION: Reissuance of a notice of intent (NOI) to prepare an environmental impact statement (EIS).

SUMMARY: The USDA, Forest Service, Los Padres National Forest, gives notice of intent to conduct an analysis and prepare an EIS for reissuance of a 20-year special use permit for the Winchester Canyon Gun Club (WCGC). This notice announces the beginning of scoping, describes the proposed action and the decision to be made, and estimates the dates for filing the draft and final EIS. This notice also provides information concerning public participation and the names and addresses of Agency officials, who can provide information. The Agency issued an NOI in the Federal Register (Vol. 74, No. 230, Wednesday, December 2, 2009). However, issuance of the draft EIS has been delayed. Because of this delay, the Agency is reissuing the NOI to ensure timely scoping and a timely release of the documents.

DATES: Comments concerning the scope of the analysis must be received by June 11, 2012. The draft EIS is expected in the fall of 2012 and the final EIS is expected the end of 2012.

ADDRESSES: Send written comments to: Los Padres National Forest, 6755 Hollister Avenue, Suite 150, Goleta, CA 93117, attention: Jeff Bensen. Comments may also be sent via email to comments-pacificsouthwest-los-padressanta-barbara@fs.fed.us or via facsimile to (805) 561-5729. Comments received in response to this solicitation, including the names and addresses of those who comment, will be part of the public record for this proposed action.

FOR FURTHER INFORMATION CONTACT: Questions about the proposed action may be directed to Jeff Bensen, Project Team Leader, Los Padres National Forest, 6755 Hollister Avenue, Suite 150, Goleta, CA 93117; telephone: (805) 961-5744; email: commentspacificsouthwest-los-padres-santabarbara@fs.fed.us. Individuals, who use telecommunication devices for the deaf (TDD), may call the Federal Information Relay Service (FIRS) at 1 (800) 877-8339 between 8 a.m. and 8 p.m. Eastern time Monday through Friday.

SUPPLEMENTARY INFORMATION:

Purpose and Need for Action

The WCGC has been authorized to operate on the Los Padres National Forest by a special use permit since the late 1960s. The last term permit expired in 1995, and from that time on, the WCGC has been authorized by annual special use permits. In 2007, an environmental assessment pertaining to the issuance of a 20-year special use permit was completed, and a Decision Notice/Finding of No Significant Impact was issued. The decision was appealed, and the R5 Regional Forester sent the decision back to the Los Padres National Forest for further analysis. The purpose of this action is to reinitiate the proposed action in an EIS.

Proposed Action

The proposed action would authorize the renewal of a 20-year special use permit for the WCGC. The proposed action would require changes pertaining to historic activities and a reduction in the number of shooting facilities, as well as, the number of acres covered under the special use permit from what had been authorized previously. The total size of the permit area would be reduced from 140 acres, as previously permitted, to 96 acres. Maps are available upon request that display the location of the project area, the existing facilities, and the features of the proposed action. The permit would authorize the following existing facilities:

• Clubhouse with a barbecue area

• Restroom buildings

• Two access roads and gates

• Fire equipment and storage containers

• 50-, 100-, 200-yard rifle and pistol ranges

• Three target range firing line covers

• Parking areas

• Three trap ranges, one skeet range, and a sporting clay course

• Skeet, trap, and sporting clay shot-fall zones

• Safety fences, barriers, and berms

• Permit area perimeter fences and signs

• Generator building

• Propane tank and enclosure

Shooting activities would be restricted to the existing rifle and pistol ranges, three trap ranges, one skeet range, and a sporting clay course, as listed above. Shotgun ranges would be used in a manner minimizing the size of shot-fall areas, minimize the areas of lead contamination, and minimize the area where lead must be collected and recycled. Sporting clay activities would be conducted in a manner ensuring that the shot fall would overlap the trap and skeet range shot-fall areas. The proposed action would not authorize use of the historic long-bore range in the San Jose basin.

The range would be open year-round, with use authorized from sunrise to sunset. The WCGC would offer access to both club members and the public. Club members would be allowed to access the permit area for appropriate target shooting seven days a week. The public would be allowed shotgun use on Wednesday, Saturday, and Sunday, with rifle/pistol use on Saturday and Sunday. The WCGC would also offer the rifle and pistol ranges to local law enforcement agencies and military affiliates, such as ROTC.

An access trail leading into the trap and skeet shot-fall areas would be constructed on the steep northern portion of the proposed permit area. The trail would be 50 inches wide and approximately ⅓ mile long. The trail would allow the WCGC to monitor lead deposition and collect and recycle lead shot. Initial lead shot recovery activities would be within 50 feet of the centerline of the trail, focusing primarily on areas of shot concentration.

The objective of the proposed action is to isolate the WCGC from the adjoining San Jose basin to the greatest extent possible, maximize the physical separation of the two areas, and mitigate unavoidable effects. In 2011, the San Jose basin area was recommended as a Traditional Cultural Landscape (TCL), underlining the importance of this objective, and it will be managed as an area of cultural importance. A barrier fence constructed at the ridgeline between the proposed WCGC boundary and the San Jose basin would stop clay target and shot wad (shooting) debris, but noise and some lead shot would still carry into the basin area. This is discussed in greater detail below. The Forest Service and the WCGC are jointly developing an Environmental Stewardship Plan (ESP), which will incorporate a schedule of actions to mitigate effects of the target range on the San Jose basin.

In the San Jose basin, the existing 200-, 300-, and 600-yard-long bore ranges with target structures and impact berms will be permanently removed. Use of these ranges by the WCGC has been denied by the Forest Service since 1998. The structures have remained idle since that time. To access the range, an existing unused access road, which is ½-mile long, will be re-opened to remove the structures and soil containing lead from the berms. Minimal work would be done to open the road to utilize a dump truck and a backhoe/loader to remove the steel and wooden target frames, retaining walls, impact berms, and associated target range materials. Contaminated soil at each of the three target structures would be removed from the basin area. It is expected at least the top 12 inches of soil will need to be removed. The contaminated soil and structural timbers will be hauled to the existing rifle and pistol ranges where the material will be used to reinforce the target berms and improve the safety/dividing barriers between the ranges. Once the removal project is completed, the area of the three target structures will be re-contoured, a culvert on the road would be removed, and the road and target areas would be ripped and put to bed. It is expected the road and target sites will naturally re-vegetate with significant recovery within several years.

Continuing impacts to the San Jose basin are lead shotfall and shooting noise. A portion of the skeet range shot fall area overlaps into the northwest edge of the San Jose basin. The overlap would continue with mitigation measures to minimize lead and shooting debris accumulation in the basin area. The overlap is a wedge shaped 4.2 acre area. This area of continued impact is a reduction from 55 acres the WCGC was historically permitted to use in the basin area when the long bore range was included. Mitigation measures are listed below and include construction of a 12-foot high 200-foot long barrier fence along the ridgeline between the skeet range and the San Jose basin to stop shooting debris (target clays and shot wads) and some lead shot from entering the basin area. Mitigations also include monthly clean-up of any shooting debris entering the basin, and planned collection of lead shot in the shot fall area. The potential effects of this lead cleanup will be analyzed in the EIS. To partially mitigate the impact of noise, an MOA with the local Tribe has been developed to provide noise free days. The EIS will also analyze the impacts of noise to surrounding areas.

The ESP incorporates the findings from this environmental document to identify environmental concerns, evaluate and prioritize appropriate actions, and generate a list of short- and long-term action items and the steps necessary to implement each item to protect and manage the permitted area. The ESP incorporates the U.S. Environmental Protection Agency's guidelines entitled “Best Management Practices for Lead at Outdoor Shooting Ranges.” In addition, the ESP contains the following:

• Conduct an annual evaluation of progress by the WCGC and the Forest Service toward the environmental stewardship goals.

• Establish a testing and monitoring schedule for soil pH at target backstops and shotgun shot-fall zones. Soil pH will be maintained between 6.5 and 8.5.

• Establish a soil testing and monitoring schedule for lead content and stability on the site.

• Install physical barriers such as silt dams and berms as needed at target backstops and shot-fall zones to prevent lead migration off-site through groundwater and surface water.

• Use only “environmentally friendly” clay targets.

• Do not allow target clays and wads to accumulate on the trap, skeet, and sporting clay fields. The accumulated “environmentally friendly” and “black” targets on the accessible areas at the trap, skeet, and sporting clay zones will be cleaned up and removed from the site. This project will be completed 3 to 4 years after the permit is issued, and subsequent routine removal of the target debris will be established in the ESP.

• Collect and recycle lead at the rifle/impact berms.

• Collect and recycle lead from the trap and skeet ranges and shot-fall zones.

• Construct a 12-foot-high, 200- foot-long barrier fence on the eastern edge of the skeet range to stop shooting targets and some lead shot from crossing into the San Jose basin.

• Coordinate with the local Native American communities to establish “no shooting days” to mitigate the impact of noise.

• Remove the target frame racks and permanently discontinue use of the 200-, 300-, and 600-yard ranges in the basin, and remove the materials, contaminated soil, and access road when the rehabilitation project is completed.

• Construct a 50-inch-wide access trail into the north-facing trap and skeet range shot-fall zone for lead collection. Lead shot collection will initially be conducted within 50 feet of the trail up and downslope from the trail.

• Collect lead in the skeet range shot-fall overlap area in the San Jose basin by trimming brush only enough to facilitate access to areas of shot accumulation on the soil surface.

• Collect and remove lead for recycling using hand screening or small mechanized screening equipment if available. The collection methods will be consistent with the recommendations listed in the U.S. Environmental Protection Agency's guidelines entitled “Best Management Practices for Lead at Outdoor Shooting Ranges.” Lead shot collection and ground disturbance will be monitored and conducted to reduce the potential for off-site migration of lead.

All facilities will be available and accessible to all people without discrimination based on race, color, national origin, sex, religion, age, disability, political beliefs, or marital or familial status. An operation and maintenance plan, safety plan, and fire plan will be developed by both the WCGC and the Forest Service, attached to the permit, and monitored to ensure compliance.

Possible Alternatives

A full range of alternatives will be considered, including non-renewal of the permit, renewal of the permit, and renewal of the permit with modifications. In addition, alternatives in response to issues generated during the scoping process will be considered. All alternatives will comply with the Los Padres National Forest Land Management Plan.

Responsible Official

Peggy Hernandez, Forest Supervisor, Los Padres National Forest, Goleta, California, is the responsible official for this EIS and its Record of Decision. As the responsible official, the Forest Supervisor will document the decision and the reason for the decision in the Record of Decision. The decision will be subject to Forest Service Appeals Regulations (36 CFR Part 215).

Nature of Decision To Be Made

The responsible official will make a decision by considering the following:

1. Whether the proposed action will proceed as proposed, with modifications, or not at all; and

2. What associated mitigation measures and monitoring requirements will be required.

Preliminary Issues

Preliminary issues identified during earlier public involvement include the following:

1. Potential impacts of lead and other shooting contaminants on-site:

(a) At affected areas of San Jose basin from long-bore ranges, and

(b) From continued operation of existing facilities proposed to remain;

2. Potential for off-site migration of lead and other shooting contaminants;

3. Impacts on cultural sites in the San Jose basin;

4. Target range safety;

5. Target range potential for starting wildfires; and

6. Need for a controlled regulated shooting facility.

Scoping Process

All scoping comments submitted to the Forest Service in response to the NOI dated December 2, 2009, will be carried through to this current scoping period. Previous respondents are not required to provide duplicate comments; however, all new comments relevant to this proposed action are encouraged and welcome. This scoping process guides the development of the EIS. The Forest Supervisor is seeking public and agency comment on the proposed action to identify issues that could arise. These issues may lead to other alternatives or additional mitigation measures and monitoring requirements. Comments may be provided at any time during the planning process, but it is important that reviewers provide their comments at a time and in a manner that will be most useful to the Agency's preparation of the EIS. Therefore, comments should be provided prior to the close of the comment period and should clearly articulate the reviewer's concerns and contentions. The submission of timely and specific comments in response to this Notice does not confer status for subsequent administrative appeal but does provide important information for preparation of the document and may be of importance for judicial review.

Dated: April 19, 2012.
Peggy Hernandez,
Forest Supervisor.

[FR Doc. 2012-10192 Filed 4-26-12; 8:45 am]

BILLING CODE 3410-11-P